CONSUMER PRODUCT SAFETY COMMISSION

Sunshine Act Meeting Notice

TIME AND DATE: Wednesday, February 4, 2021; 10:00 a.m.

PLACE: This meeting will be conducted by remote means.

STATUS: Commission Meeting—Closed to the Public.

MATTERS TO BE CONSIDERED: Decisional Matter.

CONTACT PERSON FOR MORE INFORMATION: Alberta E. Mills, Secretary, Division of the Secretariat, Office of the General Counsel, U.S. Consumer Product Safety Commission, 4330 East West Highway, Bethesda, MD 20814, (301) 504-7479 (Office) or 240-863-8938 (cell).

Dated: February 3, 2021.
Alberta E. Mills,
Secretary.

[FR Doc. 2021-02605 Filed 2-4-21; 11:15 am]

BILLING CODE 6355-01-P